DEPARTMENT OF TRANSPORTATION

Federal Aviation Administration

14 CFR Part 39

[Docket No. FAA-2005-20511; Directorate Identifier 2004-SW-32-AD; Amendment 39-14117; AD 2005-12-01]

RIN 2120-AA64

Airworthiness Directives; Agusta S.p.A. Model A109E Helicopters

AGENCY: Federal Aviation Administration, DOT.

ACTION: Final rule.

SUMMARY: This amendment adopts a new airworthiness directive (AD) for Agusta S.p.A. (Agusta) Model A109E helicopters that requires, within 5 hours time-in-service (TIS), locating relay K7212 and its associated cable in the overhead panel assembly and visually inspecting the electrical cable in the splice area for arcing or burns. If arcing or burns are found, this AD requires, before further flight, replacing an unairworthy cable with an airworthy cable kit. This AD is prompted by an overhead panel inspection report of incorrect crimping of the pins on the cable that connects to the relay. An electrical cable fault during assembly could result in arcing or burning of the cable junction at a relay in the overhead electrical panel. The actions specified by this AD are intended to detect arcing or burns of the cable or relay and to prevent burning of the cable junction at a relay, a fire in the cockpit, and subsequent loss of control of the helicopter.

DATES: Effective July 13, 2005.

The incorporation by reference of certain publications listed in the regulations is approved by the Director of the Federal Register as of July 13, 2005.

ADDRESSES: You may get the service information identified in this AD from Agusta, 21017 Cascina Costa di Samarate (VA) Italy, Via Giovanni Agusta 520, telephone 39 (0331) 229111, fax 39 (0331) 229605-222595.

Examining the Docket

You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Robert McCallister, Aviation Safety Engineer, FAA, Rotorcraft Directorate, Safety Management Group, Fort Worth, Texas 76193-0110, telephone (817) 222-5121, fax (817) 222-5961.

SUPPLEMENTARY INFORMATION: A proposal to amend 14 CFR part 39 to include an AD for the specified model helicopters was published in the Federal Register on March 8, 2005 (70 FR 11165). That action proposed to require, within 5 hours TIS, locating relay K7212 and its associated cable in the overhead panel assembly and visually inspecting the electrical cable in the splice area for arcing or burns. If arcing or burns are found, this proposal would require, before further flight, replacing an unairworthy cable with an airworthy cable kit.

Ente Nazionale per l'Aviazione Civile (ENAC), the airworthiness authority for Italy, notified the FAA that an unsafe condition may exist on Agusta Model A109E helicopters. ENAC advises carrying out the controls and modification called for by Agusta Bollettino Tecnico No. 109EP-22, dated November 12, 2001 (BT 109EP-22).

Agusta has issued BT 109EP-22, which specifies visually inspecting the cable for the possible presence of arcing or burns. If the presence of arcing or burns are found, the BT specifies modifying the direct current electrical system bus bar connections with a kit, P/N 109-0823-01-101. ENAC classified this service bulletin as mandatory and issued AD No. 2001-481, dated November 13, 2001, to ensure the continued airworthiness of these helicopters in Italy.

This helicopter model is manufactured in Italy and is type certificated for operation in the United States under the provisions of 14 CFR 21.29 and the applicable bilateral agreement. Pursuant to the applicable bilateral agreement, Italy has kept us informed of the situation described above. We have examined the findings of ENAC, reviewed all available information, and determined that AD action is necessary for products of this type design that are certificated for operation in the United States.

Interested persons have been afforded an opportunity to participate in the making of this amendment. No comments were received on the proposal or the FAA's determination of the cost to the public. The FAA has determined that air safety and the public interest require the adoption of the rule as proposed with a change of names in the FOR FURTHER INFORMATION CONTACT section of this AD. This change will neither increase the economic burden on any operator nor increase the scope of the AD.

The FAA estimates that this AD will affect 12 helicopters of U.S. registry. The required actions will take about ½ work hour to visually inspect and 2.5 work hours to replace the cable per helicopter at an average labor rate of $65 per work hour. Required parts will cost approximately $707 per helicopter. Based on these figures, we estimate the total cost impact of the AD on U.S. operators to be $10,824 assuming the cable is replaced on the entire fleet.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-12-01 Agusta S.p.A.: Amendment 39-14117. Docket No. FAA-2005-20511; Directorate Identifier 2004-SW-32-AD.

Applicability: Model A109E helicopters, serial numbers (S/N) 11084 through 11113 except S/N 11096, 11103, 11105, 11106, 11107, 11110, and 11111, certificated in any category.

Compliance: Required as indicated, unless accomplished previously.

To detect arcing or burns of the cable or relay and to prevent burning of the cable junction at a relay, a fire in the cockpit, and subsequent loss of control of the helicopter, do the following:

(a) Within 5 hours time-in-service, visually inspect the cable, part number (P/N) 109-0753-10, for arcing and burns in the splice area where it connects to relay K7212. Refer to Figures 1 and 3 of the Agusta Bollettino Tecnico No. 109EP-22, dated November 12, 2001 (ABT) for the location of the cable and the relay in the cockpit overhead panel.

(b) If arcing or burns are found, before further flight, replace the cable, P/N 109-0753-10, with an airworthy cable kit, P/N 109-0823-01-101 and test the electrical system by following the Compliance Instructions, Part II, of the ABT.

(c) To request a different method of compliance or a different compliance time for this AD, follow the procedures in 14 CFR 39.19. Contact the Safety Management Group, Rotorcraft Directorate, FAA, for information about previously approved alternative methods of compliance.

(d) Inspecting and replacing the cable and testing the electrical system must be done by following Agusta Bollettino Tecnico No. 109EP-22, dated November 12, 2001. The Director of the Federal Register approved this incorporation by reference in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the National Archives and Records Administration (NARA). For information on the availability of this material at NARA, call 202-741-6030, or go to: http://www.archives.gov/federal_register/code_of_federal_regulations/ibr_locations.html.

(e) This amendment becomes effective on July 13, 2005.

Note: The subject of this AD is addressed in Ente Nazionale per l'Aviazione Civile (Italy) AD 2001-481, dated November 13, 2001.

Issued in Fort Worth, Texas, on May 27, 2005.
David A. Downey,
Manager, Rotorcraft Directorate, Aircraft Certification Service.

[FR Doc. 05-11256 Filed 6-7-05; 8:45 am]

BILLING CODE 4910-13-P